DEPARTMENT OF COMMERCE

International Trade Administration

[A-533-808]

Stainless Steel Wire Rods from India: Notice of Intent to Rescind Antidumping Duty Administrative Review

AGENCY: Import Administration, International Trade Administration, Department of Commerce.

SUMMARY: In response to requests from interested parties, the Department of Commerce is conducting an administrative review of the antidumping duty order on stainless steel wire rods from India for the period December 1, 2004, through November 30, 2005. The Department of Commerce intends to rescind this review with respect to Viraj Alloys, Ltd., Viraj Forgings, Ltd., Viraj Impoexpo, Ltd., Viraj Smelting, Viraj Profiles, and VSL Wires, Ltd., and Mukand Limited after concluding that there were no entries of merchandise subject to the order during the period of review.

EFFECTIVE DATE: May 19, 2006.

FOR FURTHER INFORMATION CONTACT: John Holman at (202) 482-3683 or Kristin Case at (202) 482-1374, AD/CVD Operations, Office 5, Import Administration, International Trade Administration, U.S. Department of Commerce, 14th Street and Constitution Avenue, NW., Washington, DC 20230.

SUPPLEMENTARY INFORMATION:

Background

On December 1, 1993, the Department of Commerce (the Department) published the antidumping duty order on stainless steel wire rods (wire rods) from India. See Antidumping Duty Order: Certain Stainless Steel Wire Rods from India, 58 FR 63335 (December 1, 1993). On December 1, 2005, the Department published a notice in the Federal Register providing an opportunity for interested parties to request an administrative review of the order on wire rods from India for the period of review (POR) December 1, 2004, through November 30, 2005. See Notice of Opportunity to Request Administrative Review of Antidumping Duty Order, Finding, or Suspended Investigation, 70 FR 72109 (December 1, 2005). On December 20, 2005, the petitioner, Carpenter Technology Corp., requested that the Department conduct an administrative review of “the Viraj Group, including but not necessarily limited to Viraj Alloys, Ltd., Viraj Forgings, Ltd., Viraj Impoexpo Ltd., Viraj Smelting, Viraj Profiles, and VSL Wires, Ltd.” because, according to the request, the petitioner believed these firms were manufacturing and/or exporting subject merchandise to the United States. On December 22, 2005, we received a timely request from Mukand Limited (Mukand) for an administrative review of its exports.

On February 1, 2006, in accordance with section 751(a) of the Tariff Act of 1930, as amended (the Act), the Department initiated an administrative review of Viraj Alloys, Ltd. (VAL), Viraj Impoexpo, Ltd., Viraj Forgings, Ltd., Viraj Smelting, Viraj Profiles, and VSL Wires, Ltd. (VSL) (collectively, the Viraj entities) and Mukand. See Notice of Initiation of Antidumping and Countervailing Duty Administrative Reviews and Request for Revocation in Part, 71 FR 5241 (February 1, 2006) (Initiation Notice). In the Initiation Notice, the Department stated that, although the Department had revoked the order in part with respect to entries of subject merchandise produced and exported by VAL and VSL, effective December 1, 2003,¹ the Department was “conditionally initiating a review with respect to Viraj Alloys, Ltd., Viraj Forgings, Ltd., Viraj Impoexpo Ltd., Viraj Smelting, Viraj Profiles, and VSL Wires, Ltd., pending further information from the requestor as to sales of subject merchandise not covered by the revocation.”

¹ See Stainless Steel Wire Rod From India: Final Results of Antidumping Duty Administrative Review and Determination to Revoke Order in Part, 70 FR 40318, 40319-20 (July 13, 2005).

Scope of the Order

The products covered by this order are certain stainless steel wire rods, which are hot-rolled or hot-rolled annealed and/or pickled rounds, squares, octagons, hexagons or other shapes, in coils. Wire rods are made of alloy steels containing, by weight, 1.2 percent or less of carbon and 10.5 percent or more of chromium, with or without other elements. These products are only manufactured by hot-rolling, are normally sold in coiled form, and are of solid cross section. The majority of wire rods sold in the United States are round in cross-section shape, annealed, and pickled. The most common size is 5.5 millimeters in diameter.

The products are currently classifiable under subheadings 7221.00.0005, 7221.00.0015, 7221.00.0030, 7221.00.0045, and 7221.00.0075 of the Harmonized Tariff Schedule of the United States (HTSUS). Although the HTSUS subheadings are provided for convenience and customs purposes, our written description of the scope of this proceeding remains dispositive.

Post-Initiation Developments

Viraj Entities

On February 8, 2006, the Department requested that, in light of the previous revocation determination, the petitioner clarify its request to ensure that it only includes companies that it believes may have exported to the United States merchandise that is subject to the order.

Moreover, the Department indicated that, absent adequate clarification, it intended to rescind the administrative review with respect to the Viraj entities. See February 8, 2006, letter from Laurie Parkhill, Office Director, to the petitioner.

On February 10, 2006, the petitioner responded to the Department's request. The petitioner urged the Department to seek information as to whether the named companies shipped subject merchandise to the United States during the POR. The petitioner also referred to the changes in operation among the various Viraj entities that the Department recognized in pre-revocation reviews. Therefore, in light of the revocation and the petitioner's request, we determined that it was appropriate to ascertain whether there are suspended entries of merchandise subject to the order from the Viraj entities. We examined shipment data we obtained from U.S. Customs and Border Protection (CBP) and placed this data on the record on May 2, 2006. See Memorandum to the File, “Customs Data of 2004-2005 Entries of SSWR from India,” dated May 2, 2006. Based on this information, we determined that there are no suspended entries of merchandise subject to the order involving any of the Viraj entities for the POR. See Memorandum from Laurie Parkhill, Office Director, to Stephen J. Claeys, Deputy Assistant Secretary, “2004-2005 Administrative Review of the Antidumping Duty Order on Stainless Steel Wire Rods from India - Rescission of Review of the Viraj Group Companies,” dated May 15, 2006.

Mukand

Further, while examining the data for shipments from Viraj entities, we ascertained that there were no entries of merchandise subject to the order from Mukand during the POR.

Intent to Rescind the Administrative Review

Section 751(a) of the Act instructs the Department that, when conducting administrative reviews, it is to determine the dumping margin for entries during the period. Further, according to 19 CFR 351.213(d)(3), the Department will rescind an administrative review in whole or only with respect to a particular exporter or producer if it concludes that, during the POR, there were no entries, exports, or sales of the subject merchandise, as the case may be. The Department has interpreted the statutory and regulatory language as requiring “that there be entries during the period of review upon which to assess antidumping duties.” See Granular Polytetrafluoroethylene Resin from Japan: Notice of Rescission of Antidumping Duty Administrative Review, 70 FR 44088, 44088 (August 1, 2005). In Allegheny Ludlum Corp. v. United States, 346 F.3d 1368 (Fed. Cir. October 15, 2003), the Court of Appeals for the Federal Circuit upheld the Department's practice of rescinding annual reviews when there are no entries of subject merchandise during the POR. See also Stainless Steel Plate in Coils from Taiwan: Final Rescission of Antidumping Duty Administrative Review, 68 FR 63067, 63068 (November 7, 2003) (stating that “the Department's interpretation of its statute and regulations, as affirmed by the Court of Appeals for the Federal Circuit, supports not conducting an administrative review when the evidence on the record indicates that respondents had no entries of subject merchandise during the POR”).

Because there were no entries of merchandise subject to the order during the POR from any of the Viraj companies named in the notice of initiation, we intend to rescind the administrative review with respect to Viraj. In addition, because there were no entries of merchandise subject to the order from Mukand during the POR, we intend to rescind the administrative review with respect to Mukand.

Thus, the statute, regulations, previous administrative decisions, and case law all support rescission of the administrative review in this case. Therefore, the Department intends to rescind the administrative review with respect to the Viraj entities and Mukand.

Public Comment

Any interested party may request a hearing within 15 days of publication of this notice of intent to rescind. See 19 CFR 351.310(c). Any hearing, if requested, will be held 30 days after the date of publication, or the first working day thereafter. Interested parties may submit case briefs no later than 15 days after the date of publication of this notice of intent to rescind. See 19 CFR 351.309(c)(1)(ii). Rebuttal briefs, limited to issues raised in case briefs, may be filed no later than five days after the time limit for filing the case brief. See 19 CFR 351.309(d). Parties who submit arguments are requested to submit with the argument (1) a statement of the issue, (2) a brief summary of the argument, and (3) a table of authorities. Further, parties submitting written comments should provide the Department with an additional copy of the public version of any such comments on diskette. The Department will issue the final notice, which will include the results of its analysis of issues raised in any such comments, or at a hearing, if requested, within 120 days of publication of this notice of intent to rescind.

Further, absent the completion of the 2004-2005 administrative review, the cash-deposit rate for Mukand will remain at 18.67 percent (Stainless Steel Wire Rods From India: Final Results and Partial Rescission of Antidumping Duty Administrative Review, 69 FR 29923 (May 26, 2004)).

This notice is published in accordance with sections 751(a)(1) and 777(i)(l) of the Act and 19 CFR 351.213(d).

Dated: May 15, 2006.
Stephen J. Claeys,
Deputy Assistant Secretary for Import Administration.

[FR Doc. E6-7685 Filed 5-18-06; 8:45 am]

Billing Code: 3510-DS-S